DEPARTMENT OF COMMERCE

Census Bureau

Agency Information Collection Activities; Submission to the Office of Management and Budget (OMB) for Review and Approval; Comment Request; School District Review Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 22, 2020, during a 60-day comment period. This notice allows for an additional 30 days for public comments.

Agency: U.S. Census Bureau, Commerce.

Title: School District Review Program.

OMB Control Number: 0607-0987.

Form Number(s): None.

Type of Request: Regular submission, Request for an Extension, without Change, of a Currently Approved Collection.

Number of Respondents: 102.

• Annotation Phase: 51.

• Verification Phase: 51.

Average Hours per Response: 40 hours.

• Annotation Phase: 30 hours.

• Verification Phase: 10 hours.

Burden Hours: 2,040 hours.

• Annotation Phase: 1,530 hours.

• Verification Phase: 510 hours.

Needs and Uses: The School District Review Program (SDRP) is one of many voluntary geographic partnership programs at the U.S. Census Bureau. The SDRP collects school district information and boundaries to update the Census Bureau's geographic database of addresses, streets, and boundaries on an annual basis. The Census Bureau uses its geographic database to tie demographic data from surveys and the decennial census to locations and areas, such as cities, school districts, and counties. To tabulate statistics by localities, the Census Bureau must have accurate addresses and boundaries.

While the geographic programs differ in requirements, timeframe, and participants, SDRP and the other geographic programs all follow the same basic process. The Census Bureau invites eligible participants to the program. For SDRP, the sponsor, the National Center for Education Statistics invites the state departments of education/state Title I coordinators to designate mapping coordinators. If they elect to participate in the program, participants receive a copy of the boundaries the Census Bureau has on file. SDRP participants receive free customized mapping software. Participants review the boundaries in the Census Bureau provided digital maps and update them if needed. The mapping coordinator collects updates from local school districts, state education officials, county planners, and state data centers, and ensures completion of submissions within the SDRP's timeframe. The respondents for the SDRP are the Title I coordinators and mapping coordinators from the fifty states and the District of Columbia. Participants return their updates to the Census Bureau. The Census Bureau then updates its geographic database with boundary updates from participants to use the newly updated boundaries to tabulate statistics.

The Census Bureau requests state officials to review and update the school district information the Census Bureau has on file, through the SDRP. The school district information obtained through this program will assist in forming the Census Bureau's estimates of the number of children age five through seventeen, in families in poverty, for each school district. State officials will provide the Census Bureau with updates and corrections to the Federal School District Local Education Agency identification numbers, school district boundaries, school names, grade ranges, and levels for which each school district is financially responsible.

These Census Bureau estimates are the basis of the Title I allocation for each school district. The SDRP is of vital importance for each state's allocation under Title I of the Elementary and Secondary Education Act as amended by Every Student Succeeds Act of 2015, Public Law 114-95. The U.S. Department of Education uses these estimates to allocate more than $14 billion in Title I funding annually.

The SDRP encompasses Type 1 and Type 2 school districts as defined by the NCES. Type 1 is a local school district that is not a component of a supervisory union. Type 2 is a local school district component of a supervisory union sharing a superintendent and administrative services with other local school districts.

The SDRP consists of two phases—the Annotation and Verification Phases. In the Annotation Phase, the Census Bureau provides mapping coordinators with materials containing the most current school district boundaries and information the Census Bureau has on file for their state. Mapping coordinators review the data and submit changes to the school district boundaries or associated information to the Census Bureau. The Census Bureau reviews and processes the information submitted by mapping coordinators, and the Census Bureau updates all verified changes into the Master Address File/Topologically Integrated Geographic Encoding and Referencing (MAF/TIGER) database. In the Verification Phase, mapping coordinators verify that the Census Bureau accurately and completely updated the MAF/TIGER database with updates submitted during the Annotation Phase.

In the Annotation Phase, mapping coordinators gather school district updates from school district superintendents and other state officials and use Census Bureau-provided materials to review and update school district boundaries, names, codes, and geographic relationships. The Census Bureau provides mapping coordinators with school district listings, spatial data in shapefile format, blank submission logs, and Geographic Update Partnership Software (GUPS). The school district listings consist of school district inventories, school names, levels, grade ranges, and other data about school districts within their state. If the mapping coordinator has non-spatial updates (e.g., name changes, simple consolidations, simple dissolutions, and others), the mapping coordinator updates the Census Bureau provided submission log with those changes. If a mapping coordinator needs to perform spatial updates to a school district boundary, the mapping coordinator uses Census Bureau provided GUPS and spatial data to make updates. GUPS, SDRP version, is a Census Bureau-created, user-friendly, free digital mapping tool for mapping coordinators. It contains all the functionality necessary for mapping coordinators to spatially make and validate their school district updates. Once mapping coordinators have reviewed and updated the school district information for their state, the mapping coordinator sends it to the Census Bureau, using Secure Web Incoming Module (SWIM), a web portal for uploading SDRP submissions. The Census Bureau will update the MAF/TIGER database with the updates sent by the mapping coordinator. The Annotation Phase begins for the SDRP in August/September of each year. The deadline to submit SDRP Annotation Phase to Census Bureau is the last workday in December of each year.

In the Verification Phase, the Census Bureau sends mapping coordinators newly created listings and digital files, and mapping coordinators use the SDRP verification module in GUPS to review these files and verify that the Census Bureau correctly captured their submitted information. The mapping coordinator can tag the area of issue and send the information to the Census Bureau to make corrections if the Census Bureau did not incorporate their boundary changes or other updates correctly. The Verification Phase begins and ends for the SDRP during March/April of each year.

Affected Public: All fifty states and the District of Columbia.

Frequency: Annually.

Respondent's Obligation: Voluntary.

Legal Authority: Title 13 U.S.C. Section 16, 141, and 193.

• NCES Legal Authority: Title I, Part A of the Elementary and Secondary Education Act as amended by the “Every Student Succeeds Act of 2015, Public Law (Pub. L.) 114-95.”

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0987.

Sheleen Dumas,
Department PRA Clearance Officer, Office of the Chief Information Officer, Commerce Department.

[FR Doc. 2021-12411 Filed 6-11-21; 8:45 am]

BILLING CODE 3510-07-P